DEPARTMENT OF DEFENSE

Department of the Army

Secretarial Authorization for a Member of the Department of Defense To Serve on the Board of Directors, National Commission on Certification of Physician Assistants (NCCPA)

AGENCY: Department of the Army, DoD.

ACTION: Notice.

SUMMARY: In accordance with 10 U.S.C. 1033(b), the General Counsel of the Department of Defense has designated the National Commission on Certification of Physician Assistants, and has concurred with the Secretary of the Army's authorization of LTC William L. Tozier to serve, without compensation, on the Board of Directors for the National Commission on Certification of Physician Assistants.

Authorization to serve on the Board of Directors has been made for the purpose of providing oversight and advice to, and coordination with the National Commission on Certification of Physician Assistants. Participation of the above official in the activities of the Commission will not extend to participation in day-to-day operations.

FOR FURTHER INFORMATION CONTACT: Mr. Matt Reres, Deputy General Counsel (Fiscal & Ethics), Department of the Army. 703-697-5105.

SUPPLEMENTARY INFORMATION: None.

John A. Hall,
Alternate Army Federal Register Liaison Officer.

[FR Doc. 02-21480 Filed 8-22-02; 8:45 am]

BILLING CODE 3710-08-M